FEDERAL COMMUNICATIONS COMMISSION

47 CFR Part 101

[ET Docket No. 95-18; FCC 00-233]

Allocation of Spectrum at 2 GHz for Use by the Mobile-Satellite Service; Correction

AGENCY: Federal Communications Commission.

ACTION: Final rule; correction.

SUMMARY: On August 7, 2000 (65 FR 48174), the Commission published final rules in the Second Report and Order and Second Memorandum Opinion and Order, which revised the rules governing the 2 GHz Mobile-Satellite Service. In that document a new CFR section added in the Fixed Microwave Service inadvertently carried the same CFR section number used subsequently in a final rule published September 7, 2000. This correction renumbers the section published on August 7, 2000.

DATES: Effective September 6, 2000.

FOR FURTHER INFORMATION CONTACT: Sean White, Office of Engineering and Technology, (202) 418-2453.

SUPPLEMENTARY INFORMATION: On August 7, 2000 (65 FR 48174), a new § 101.83 entitled “Reimbursement of relocation expenses in the 2115-2150 MHz and 2165-2200 MHz bands” was added. However, § 101.83 entitled “Modification of station license” was added on September 7, 2000 (65 FR 54155). This correction renumbers the section added on August 7, 2000 as § 101.99.

Accordingly, in FR Doc. 00-19478 published on August 7, 2000 (65 FR 48174), make the following corrections:

PART 101—[CORRECTED]

1. On page 48183, in the first column, in amendatory instruction 16, correct “§ 101.83” to read “§ 101.99”.

2. On page 48183, in the first column, correctly designate “§ 101.83” as “§ 101.99”.

Federal Communications Commission.
William F. Caton,
Deputy Secretary.

[FR Doc. 00-26012 Filed 10-10-00; 8:45 am]

BILLING CODE 6712-01-U